DEPARTMENT OF HEALTH AND HUMAN SERVICES

Centers for Medicare & Medicaid Services

[CMS-3445-N]

Request for Nominations of Members to Serve on the Air Ambulance Quality and Patient Safety Advisory Committee

AGENCY: Centers for Medicare & Medicaid Services (CMS), HHS; Federal Aviation Administration, Department of Transportation.

ACTION: Notice.

SUMMARY: The No Surprises Act, enacted as part of the Consolidated Appropriations Act, 2021, requires the Secretary of Health and Human Services and the Secretary of Transportation to establish and convene an advisory committee for the purpose of reviewing options to establish quality, patient safety, and clinical capability standards for each clinical capability level of air ambulances. This notice announces the establishment of the Air Ambulance Quality and Patient Safety Advisory Committee and solicits nominations for membership on the Advisory Committee.

DATES: Nominations must be received no later than June 28, 2023.

ADDRESSES: To be considered for an HHS appointment, nominations must be submitted electronically (by Email) to AAQPS@cms.hhs.gov. The subject line should state “Air Ambulance Quality and Patient Safety Advisory Committee Nomination.”

To be considered for a Department of Transportation (DOT) appointment, nominations must be submitted electronically (by Email) to Johann Hadian at Johann.Hadian@faa.gov. The subject line should state “Air Ambulance Quality and Patient Safety Advisory Committee Nomination.”

FOR FURTHER INFORMATION CONTACT:

For questions directed to CMS, please contact Ashley Spence, (410) 786-8123; Ashley.Spence@cms.hhs.gov. Press inquiries are handled through press@cms.hhs.gov.

For questions directed to DOT, Federal Aviation Administration, please contact Johann Hadian, (202) 267-2793; Johann.Hadian@faa.gov.

SUPPLEMENTARY INFORMATION:

I. Background

Section 106(g) of the No Surprises Act, enacted as part of the Consolidated Appropriations Act, 2021, div. BB, tit. I, Public Law 116-260 (Dec. 27, 2020), requires the Secretary of Health and Human Services and the Secretary of the Transportation (the Secretaries) to establish and convene an advisory committee for the purpose of reviewing options to establish quality, patient safety, and clinical capability standards for each clinical capability level of air ambulances. The Advisory Committee is governed by the provisions of the Federal Advisory Committee Act (FACA), Public Law 92-463 (Oct. 6, 1972), as amended, 5 United State Code Appendix.

II. Charter and General Responsibilities

The Advisory Committee, established on August 24, 2022, is tasked with reviewing options to establish quality, patient safety, and clinical capability standards for each clinical capability level of air ambulances. As outlined in Section 106(g) of the No Surprises Act, the Advisory Committee shall study and make recommendations, as appropriate, to the Congress regarding each of the following with respect to air ambulance services:

• Qualifications of different clinical capability levels and tiering of such levels.

• Patient safety and quality standards.

• Options for improving service reliability during poor weather, night conditions, or other adverse conditions.

• Differences between air ambulance vehicle types, services, and technologies, and other flight capability standards, and the impact of such differences on patient safety.

• Clinical triage criteria for air ambulances.

The Advisory Committee must submit these recommendations no later than 180 days after the date of its first meeting.

III. Eligibility for Membership

The Advisory Committee shall consist of not more than 13 members, including:

• The Secretary of Health and Human Services, or the Secretary's designee, who shall serve as Chair of the Committee;

• The Secretary of the Transportation, or the Secretary's designee;

• One representative, to be appointed by the Secretary of Health and Human Services, of each of the following:

++ State insurance regulators;

++ Health care providers;

++ Group health plans and health insurance issuers offering group or individual health insurance coverage;

++ Patient advocacy groups;

++ Accrediting bodies with experience in quality measures.

• Three representatives of the air ambulance industry, to be appointed by the Secretary of Transportation, and

• Three additional representatives, not covered above, as determined necessary and appropriate by the Secretary of Health and Human Services and Secretary of Transportation.

Individuals applying for membership should keep in mind that Committee members will be selected based on their ability and willingness to effectively represent the interests of all stakeholders in their category, as distinct from their parochial or personal interests. For example, an individual selected to serve on the Committee as a representative of consumer advocacy groups would represent not only his or her own organization, but all consumer advocacy groups. As such, the individual would be expected to consult with other consumer groups in bringing issues to the table and making decisions on proposals before the Committee.

IV. Nomination Process

The Secretaries are requesting nominations for membership on the Advisory Committee. Any interested person may nominate one or more qualified individuals for membership on the Advisory Committee. Self-nominations are also accepted. Nominations must include, in full, the following materials to be considered for membership. Failure to submit the required information may disqualify a candidate from the review process.

• A letter of nomination that contains contact information for both the nominator and nominee (if not the same).

• A statement from the nominee that they are willing to serve on the Advisory Committee for its duration and an explanation of interest in serving on the Advisory Committee. The nominee should also indicate which category or categories they are willing to represent. (For self-nominations, this information may be included in the nomination letter.)

• A biography, including professional and academic credentials.

• A resume or curriculum vitae that indicates the nominee's educational experience, as well as relevant professional experience.

• Two letters of reference that support the nominee's qualifications for participation on the Advisory Committee. (For nominations other than self-nominations, a nomination letter that includes information supporting the nominee's qualifications may be counted as one of the letters of reference.)

• For health care providers applying for the HHS appointments, nominees should include physicians, other clinicians, and health care operations professionals experienced with air ambulance critical care transport services and/or experience in addressing the challenges associated with transport in rural areas.

• For nominees applying for the DOT appointments, please address the following:

++ Current experience with a Part 135 operator, operating helicopters and/or airplanes in air ambulance operations. Preference will be given to those with experience operating both helicopters and airplanes in air ambulance operations.

++ Whether the applicant currently holds a management or operational position with a part 135 certificate holder operating air ambulance aircraft.

++ Knowledge of the differences between air ambulance vehicle types, services, and technologies, and other flight capability standards, and the impact of such differences on patient safety.

++ Size and scope of the operations from which operational experience was obtained.

Finally, nominees should state their previous experience on a Federal advisory committee and/or aviation rulemaking committee (if any), their level of knowledge in the stakeholder groups listed above, and the size of their constituency they represent or are able to reach.

Materials submitted should total five pages or less. Should more information be needed, Department staff will contact the applicant/nominee, obtain information from the applicant's/nominee's past affiliations, or obtain information from publicly available sources.

The Secretaries will make every effort to appoint members to serve on the Advisory Committee from among those candidates determined to have the technical expertise required to meet specific statutory categories and Departmental needs, and in a manner to ensure an appropriate balance of membership. Selection of committee members will be consistent with achieving the greatest impact, scope, and credibility among diverse stakeholders. The diversity in such membership includes, but is not limited to, race, gender, disability, sexual orientation, and gender identity.

The Secretaries reserve discretion to appoint members to serve on the Advisory Committee who did not respond to this notice if necessary to meet specific statutory categories and Departmental needs in a manner to ensure an appropriate balance of membership.

The Administrator of the Centers for Medicare & Medicaid Services (CMS), Chiquita Brooks-LaSure, having reviewed and approved this document, authorizes Evell J. Barco Holland, who is the Federal Register Liaison, to electronically sign this document for purposes of publication in the Federal Register.

Dated: June 2, 2023.
Evell J. Barco Holland,
Federal Register Liaison, Centers for Medicare & Medicaid Services.

[FR Doc. 2023-12180 Filed 6-2-23; 4:15 pm]

BILLING CODE 4120-01-P